DEPARTMENT OF THE INTERIOR

Bureau of Indian Affairs

Indian Gaming

AGENCY: Bureau of Indian Affairs, Interior.

ACTION: Notice of Amendment to Approved Tribal-State Compact.

SUMMARY: This notice publishes the Approval of the Amendment to the Tribal-State Compact between the Puyallup Tribe of Indians and the State of Washington.

EFFECTIVE DATE: December 29, 2004.

FOR FURTHER INFORMATION CONTACT: George T. Skibine, Director, Office of Indian Gaming Management, Office of the Deputy Assistant Secretary—Policy and Economic Development, Washington, DC 20240, (202) 219-4066.

SUPPLEMENTARY INFORMATION: Pursuant to Section 11 of the Indian Gaming Regulatory Act of 1988, Pub. L. 100-497, 25 U.S.C. 2710, the Secretary of the Interior shall publish, in the Federal Register, notice of approved Tribal-State Compacts for the purpose of engaging in Class III 9casion) gambling on Indian reservations. The Deputy Principal Assistant Secretary—Indian Affairs, Department of Interior, through his delegated authority, has approved the Third Amendment to the Tribal-State Compact for Class III Gaming between the Puyallup Tribe of Indians and the State of Washington, which was executed on November 16, 2004.

This Amendment authorizes the Tribe to conduct Class III gaming activities on fee land (the Fife Property) within the Tribe's reservation boundaries.

Dated: December 22, 2004.
Michael D. Olsen,
Acting Principal Deputy Assistant Secretary—Indian Affairs.

[FR Doc. 04-28506 Filed 12-28-04; 8:45 am]

BILLING CODE 4310-4N-P